DEPARTMENT OF TRANSPORTATION

National Highway Traffic Safety Administration

49 CFR Part 563

[Docket No. NHTSA-2008-0004]

Event Data Recorders

AGENCY: National Highway Traffic Safety Administration (NHTSA), Department of Transportation (DOT).

ACTION: Denial of petition for rulemaking.

SUMMARY: On February 17, 2009, the Alliance of Automobile Manufacturers petitioned for NHTSA to initiate rulemaking to delay by one year the effective date of regulations establishing requirements related to event data recorders (EDRs) voluntarily installed on light vehicles. The petitioner suggested that the delay would enable vehicle manufacturers to retain current EDR functionality across all vehicle models and avoid disabling legacy EDR systems for a limited number of vehicle models. The agency is denying the petition since the implementation of the August 2006 final rule has already been delayed by two years and we have recently published a final rule responding to the remaining petitions for reconsideration. We believe these latest amendments alleviate the most significant areas of concern expressed by the Alliance and will not necessitate further delays in implementation.

FOR FURTHER INFORMATION CONTACT: For technical and policy issues, contact:

David Sutula, Office of Crashworthiness Standards, NVS-112. Telephone: (202) 366-3273. Facsimile: (202) 366-7002.

For legal issues, contact:

Mr. David Jasinski, Office of the Chief Counsel, NCC-112. Telephone: (202) 366-4332. Facsimile: (202) 366-3820.

Both persons may be reached by mail at the following address:

National Highway Traffic Safety Administration, 1200 New Jersey Avenue SE., West Building, 4th Floor, Washington, DC 20590.

SUPPLEMENTARY INFORMATION:

Table of Contents

I. Background

II. Petition for Rulemaking

III. Analysis and Agency Decision

I. Background

In August 2006, NHTSA issued a final rule ¹ amending 49 CFR Part 563 (Part 563) to establish uniform performance requirements for the accuracy, collection, storage, survivability and retrievability of onboard motor vehicle crash EDRs voluntarily installed in light passenger vehicles. Specifically, the regulation applies to passenger cars, multipurpose passenger vehicles, trucks and buses with a gross vehicle weight rating (GVWR) of 3,855 kg (8,500 pounds) or less and an unloaded vehicle weight of 2,495 kg (5,500 pounds) or less,² that are voluntarily equipped with an EDR. The final rule aimed to standardize the data obtained through EDRs so that such data would provide information to enhance the agency's understanding of crash events and safety system performance, thereby potentially contributing to safer vehicle designs and more effective safety regulations. The final rule was intended to be technology-neutral, so as to permit compliance with any available EDR technology that meets the specified performance requirements.

¹ 71 FR 50998.

² Walk-in van-type trucks or vehicles designed to be sold exclusively to the U.S. Postal Service are excluded.

On January 14, 2008,³ the agency responded to petitions for reconsideration on the August 2006 final rule and the following amendments were made to Part 563:

³ 73 FR 2168.

• We clarified the event storage definitions to alleviate any uncertainties in multiple event crashes;

• Revised certain sensor ranges and accuracies to reflect current state of the art technologies;

• Clarified the recorded data reporting format;

• Specified vehicle storage conditions during compliance testing;

• Clarified the required data elements and scope of covered sensors; and

• Revised the effective date to provide sufficient time for manufacturers and suppliers to comply with the rule.

The agency made these changes to encourage a broad application of EDR technologies in motor vehicles and maximize the usefulness of EDR data for vehicle designers, researchers and the medical community, without imposing unnecessary burdens or deterring future improvements to EDRs that have been voluntarily installed. The final rule also provided two additional years of lead time to provide manufacturers more time to implement the necessary changes to EDR architectures within their normal product development cycles.⁴

⁴ NHTSA issued a Federal Register notice on February 8, 2008 (73 FR 8408) to correct the placement of decimal points for data in Table II of the final rule.

In response to the January 2008 final rule, the agency received three petitions for reconsideration from the Alliance of Automobile Manufacturers (Alliance), the Association of International Automobile Manufacturers, Inc., Technical Affairs Committee (AIAM) ⁵ and Mr. Thomas Kowalick, a private citizen. The agency also received two requests for interpretation from the Automotive Occupant Restraints Council and Robert Bosch, LLC.

⁵ At the time of its submission, the AIAM Technical Affairs Committee members included: American Honda Motor Co., American Suzuki Motor Corp., Aston Martin Lagonda of North America, Inc., Ferrari North America, Inc., Hyundai Motor America, Isuzu Motors America LLC, Kia Motors America, Inc., Maserati North America, Inc., Nissan North America, Inc., Peugeot Motors of America, Subaru of America, ADVICS North America, Inc., Delphi Corporation, Denso International America, Inc., and Robert Bosch Corporation.

On August 5, 2011,⁶ the agency published a final rule responding to these petitions and made the following clarifications and amendments to Part 563:

⁶ 76 FR 47478.

• We removed the required standardization of the reporting requirements for all acceleration data requirements to address certification issues with data clipping, filtering and phase-shifting;

• Clarified the application of sensor tolerances to within the range of the applicable sensor;

• Clarified the event storage definition to alleviate uncertainties in multiple event crashes;

• Clarified our position regarding exclusion of peripheral sensors from the reporting requirements for EDRs;

• Revised requirements for the capture of event data in crashes that

○ Involve side or side curtain/tube air bags such that EDR data would only need to be locked if the vehicle also captures lateral delta-V data, and

○ Involve non-reversible deployable restraints other than frontal, side or side/curtain air bags such that EDR data would not need to be locked at the option of the manufacturer;

• Clarified that any non-reversible deployable restraint may serve as an event trigger;

• Made other minor technical and editorial corrections; and

• Denied a petition request for requiring a mechanical lockout device.

II. Petition for Rulemaking

On February 17, 2009, NHTSA received a petition for rulemaking from the Alliance. The petitioner requested that NHTSA initiate rulemaking to delay the effective date of Part 563 from September 1, 2012 to September 1, 2013. The petitioner commented that the delay would enable vehicle manufacturers to retain current EDR functionality across all vehicle models and avoid disabling legacy EDR systems for a limited number of vehicle models.

The Alliance commented that the one-year delay was necessary because economic conditions have resulted in significant changes to future product plans for many Alliance member companies. As a result, the product redesigns for some vehicle models equipped with older generation EDRs have now been extended beyond the September 1, 2012 effective date. As a result, manufacturers of those affected vehicles would likely opt to disable the EDRs until such time as the vehicle could be redesigned.

The Alliance further commented that the delay would enable manufacturers to more efficiently respond to any agency revisions to Part 563 based on its response to the petitions for reconsideration of the January 14, 2008 final rule. Most notably, the Alliance identified the acceleration data element and data clipping as two needed revisions to Part 563.

Additionally, the Alliance commented that an effective date of September 1, 2013, is consistent with their original petition for reconsideration dated October 12, 2006.

On March 18, 2009, the agency met with representatives from General Motors (GM) who presented additional data ⁷ in support of the Alliance petition for delay of the effective date in Part 563. GM supported two petitions for reconsideration issues regarding the recording of acceleration data. Namely, GM supported restriction of the accuracy requirement to ± 10 percent for crashes where accelerometer data clipping does not occur, and deletion of the acceleration data element from Part 563. GM also commented that in at least one vehicle, the EDR may need to be disabled if a delay in the effective date is not granted.⁸

⁷ See Docket for this notice.

⁸ GM's position was also supported in a letter dated September 25, 2009 and posted to Docket number NHTSA-2008-0004-0011.

In a letter dated March 30, 2009, the AIAM supported the Alliance petition for delay in the effective date of Part 563. AIAM commented that manufacturers were provided “essentially one development cycle (about four years)” to reengineer EDRs to comply with Part 563. It stated that an additional delay in responding to the petitions for reconsideration of the January 2008 final rule will reduce the ability of manufacturers to implement changes during the new model development process and could result in EDR functionality being removed from some vehicles in the short term.

III. Analysis and Agency Decision

The agency amended Part 563 in its August 5, 2011 response to petitions for reconsideration of the January 14, 2008 rule. In its response, the agency carefully considered the issues of data accuracy, phase-shifting, and clipping effects associated with accelerometer signals. In that notice, we revised Part 563 to remove the reporting specifications for acceleration data elements in Table III, including minimum range, accuracy and resolution in lieu of removing the acceleration data elements altogether. Through these actions, manufacturers may continue to use current EDR technologies and not incur any significant cost increases due to use of extended accelerometer ranges, while the agency may continue to receive acceleration data. We believe that these changes adequately address the concerns of the petitioners with regard to the data elements.

Further, the agency believes that the aforementioned changes will not require manufacturers to amend their development plans for EDR architectures or vehicle models. The changes in the response to petitions for reconsideration of the January 2008 final rule will instead reduce their burden in complying and will impose no additional cost.

We expect that denying this one-year extension will have a limited effect on crash data collected by the agency for research purposes. As noted in our Vehicle Safety Fuel Economy Rulemaking/Research Priority Plans 2011-2013,⁹ the agency is developing a rulemaking proposal requiring EDRs on light vehicles to which Part 563 applies. The Alliance also acknowledged in its petition that its request has a limited impact on the number or timing of the vehicles meeting the requirements by 2012. Only one vehicle manufacturer submitted data to the agency that demonstrated that one of their vehicle models would be equipped with legacy EDR systems that would need to be disabled. The AIAM letter of support did not provide any additional data from its members.

⁹ Docket No. NHTSA-2009-0108, page 20.

Based on the foregoing, we do not believe that an additional delay in the effective date for the entire fleet is warranted, and we are denying the Alliance's petition for rulemaking.

In accordance with 49 CFR Part 552, this completes the agency's review of the petition.

Authority: 49 U.S.C. 30162; delegations of authority at 49 CFR 1.50 and 501.8.

Issued on: August 6, 2012.
Christopher J. Bonanti,
Associate Administrator for Rulemaking.

[FR Doc. 2012-19762 Filed 8-13-12; 8:45 am]

BILLING CODE 4910-59-P